DEPARTMENT OF COMMERCE

National Oceanic and Atmospheric Administration

50 CFR Part 648

[Docket No. 151204999-5999-01]

RIN 0648-BF45

Control Date for the Blueline Tilefish Fishery in Waters North of the Virginia/North Carolina Border

AGENCY: National Marine Fisheries Service (NMFS), National Oceanic and Atmospheric Administration (NOAA), Commerce.

ACTION: Advance notice of proposed rulemaking (ANPR); request for comments.

SUMMARY: This document announces a control date that may limit or restrict access to the blueline tilefish fishery in Federal waters north of the Virginia/North Carolina border. This action is necessary to inform fishery participants that we are considering future action. We intend for this document to promote awareness of possible future rulemaking, and discourage speculative entry into and/or investment in the Mid-Atlantic blueline tilefish fishery.

DATES: December 14, 2015, is established as the “control date” for the blueline tilefish fishery, and may be used as a reference date for future management measures related to the blueline tilefish fishery in Federal waters north of the Virginia/North Carolina border, consistent with applicable Federal laws and the Mid-Atlantic Fishery Management Council's recommendations. Written comments must be received on or before February 12, 2016.

ADDRESSES: You may submit comments on this document, identified by NOAA-NMFS-2015-0139 by any of the following methods:

Electronic Submission: Submit all electronic public comments via the Federal e-Rulemaking Portal. Go to www.regulations.gov/#!docketDetail;D=NOAA-NMFS-2015-0139, click the “Comment Now!” icon, complete the required fields, and enter or attach your comments.

Mail: Submit written comments to John K. Bullard, Regional Administrator, National Marine Fisheries Service, 55 Great Republic Drive, Gloucester, MA 01930. Mark the outside of the envelope, “Comments on Blueline Tilefish Control Date.”

Instructions: Comments must be submitted by one of the above methods to ensure that the comments are received, documented, and considered. We may not consider comments sent by any other method, to any other address or individual, or received after the end of the comment period. All comments received are a part of the public record and will generally be posted for public viewing on www.regulations.gov without change. All personal identifying information (e.g., name, address, etc.) submitted voluntarily by the sender will be publicly accessible. Do not submit confidential business information, or otherwise sensitive or protected information. We will accept anonymous comments (enter “N/A” in the required fields if you wish to remain anonymous).

FOR FURTHER INFORMATION CONTACT: Douglas Potts, Fishery Policy Analyst, NMFS, 978-281-9341, or Christopher M. Moore, Ph.D., Executive Director, Mid-Atlantic Fishery Management Council, 302-526-5255.

SUPPLEMENTARY INFORMATION: The fishery for blueline tilefish (Caulolatilus microps), also known as grey tilefish, in Federal waters north of the Virginia/North Carolina border has, until earlier this year, been unregulated, and historically had very low landings. Landings have increased in recent years. The fishery south of this line is managed by the South Atlantic Fishery Management Council as part of the Snapper-Grouper Fishery Management Plan (FMP).

In 2014, new restrictions on harvest in the South Atlantic led to a rapid, 20-fold increase in unregulated landings of blueline tilefish caught north of the Virginia/North Carolina border. This spike in landings prompted the Mid-Atlantic Fishery Management Council to request that we take emergency action to prevent long-term harm to the stock. On June 4, 2015, we published an emergency rule (80 FR 31864) to temporarily restrict harvest of this species in the Mid-Atlantic. Subsequently, the Mid-Atlantic Council initiated an amendment to the Golden Tilefish FMP to establish management measures for blueline tilefish within its jurisdiction with the intention of having new management measures in place before NMFS's emergency rule authority would expire. This would avoid a return to an unregulated fishery.

Due to the limited time to implement new management measures, the Mid-Atlantic Council is not considering a limited access program in the current FMP amendment under development. However, the Mid-Atlantic Council has expressed interest in potentially developing such a program in a future action. At its October 2015 meeting, the Mid-Atlantic Council voted to request that we publish a control date in the Federal Register that may be used to affect future participation in all sectors of the blueline tilefish fishery in Federal waters. The Council's discussions clarified that it is the Council's intent that this control date apply to all forms of fishing that have caught and landed blueline tilefish, including: Commercial fishing vessels; party/charter vessels that take recreational anglers for hire; as well as private recreational vessels. However, NMFS has no current information that could be used to distinguish private angler participation in this fishery before and after a control date. Therefore, such a control date would not provide meaningful notification or guidance to private recreational anglers.

Therefore, this notification establishes December 14, 2015, as a control date for potential use in determining historical or traditional participation for the commercial and for-hire recreational sectors of the blueline tilefish fishery. Establishing a control date does not commit us or the Council to develop any particular management program or criteria for participation in this fishery. We may choose a different control date or may choose a management program that does not make use of such a date. We may also choose to take no further action to control entry or access to the blueline tilefish fishery. Any future action we take will be pursuant to the Magnuson-Stevens Fishery Conservation and Management Act, will be discussed at Council meetings, and will have additional Federal rulemaking, including opportunity for public comment.

This notification gives the public notice that interested commercial and for-hire blueline tilefish fishery participants should locate and preserve records that substantiate and verify their participation in the fishery, such as: Dealer purchase slips for commercial fishing trips; Fishing Vessel Trip Reports for both commercial and party/charter vessels; or any other relevant documents. There is no precedent in the Greater Atlantic Region for a limited access program that applies to party/charter or private recreational vessels. In light of the novelty of this aspect of the Council's control date request, we encourage the public to comment on whether limited access for party/charter and private recreational anglers is needed in the blueline tilefish fishery, and, if so, what sort of qualification criteria might be considered by the Council. This notification and control date do not impose any legal obligations, requirements, or expectation.

Authority: 16 U.S.C. 1801 et seq.

Dated: December 8, 2015.
Samuel D. Rauch III,
Deputy Assistant Administrator for Regulatory Programs, National Marine Fisheries Service.

[FR Doc. 2015-31364 Filed 12-11-15; 8:45 am]

BILLING CODE 3510-22-P